DEPARTMENT OF ENERGY

Federal Energy Regulatory Commission

[Docket No. PF04-14-000]

Columbia Gas Transmission Corporation; Notice of Intent To Prepare an Environmental Assessment for the Proposed Hardy Storage Project and Virginia Looping Project and Request for Comments on Environmental Issues

October 8, 2004.

The staff of the Federal Energy Regulatory Commission (FERC or Commission) will prepare an environmental assessment (EA) that will discuss the environmental impacts of Columbia Gas Transmission Corporation's (Columbia) Hardy Storage Project located in Hardy and Hampshire Counties, West Virginia. The EA will also address Virginia Looping ¹ Project which consists of constructing new sections of pipeline parallel to Columbia's existing pipeline in Shenandoah, Page, Rockingham, Greene, and Louisa Counties, Virginia. This notice announces the opening of the scoping process we will use to gather input from the public and interested agencies on the projects. Your input will help the Commission staff determine which issues need to be evaluated in the EA. Please note that the scoping period will close on November 22, 2004.

¹ A loop is a segment of pipeline installed adjacent to an existing pipeline and which connects to the existing pipeline at both ends of the loop. The loop allows more gas to be moved through the system.

Comments may be submitted in written form or verbally. Further details on how to submit written comments are provided in the public participation section of this notice. Public scoping meetings will be held in early November, and an additional public notice will be issued once the dates and locations are determined.

This notice is being sent to affected landowners; Federal, state, and local government representatives and agencies; environmental and public interest groups; other interested parties; and local libraries and newspapers in this proceeding. We encourage government representatives to notify their constituents of these planned projects and encourage them to comment on their areas of concern.

Summary of the Proposed Projects

Columbia proposes to construct and operate a natural gas storage field and related facilities in Hardy and Hampshire Counties, West Virginia, and loop its existing pipeline in Shenandoah, Page, Rockingham, Greene, and Louisa Counties, Virginia. In addition to the facilities described below, both projects will also involve the construction of aboveground facilities such as valves, meters, meter stations, and pig launchers and receivers. The majority of the facilities proposed on these projects are located within or adjacent to existing cleared rights-of-way.

Hardy Storage Project

Columbia proposes to store natural gas in the Oriskany sandstone formation in Hardy and Hampshire Counties, West Virginia. The Oriskany is a depleted, self-contained, natural gas producing geologic formation that is located more than a mile underground. Natural gas existed in the Oriskany for millions of years until it was discovered and produced in the 1960s and early 1970s. Natural gas supplies from Appalachia, the Southwest, or other sources will be stored in the field when demand is low, then withdrawn as needed during periods of high demand.

Maps depicting Columbia's proposed storage project and related facilities in West Virginia are provided in Appendix 1.² Some of the facilities involved in this portion of the project include:

² The appendices referenced in this notice are not being printed in the Federal Register. Copies are available on the Commission's website at the “eLibrary” link or from the Commission's Public Reference and Files Maintenance Branch, Room 2A or call (202) 502-8371. For instructions on connecting to “eLibrary” refer to the end of this notice. Copies of the appendices were sent to all those receiving this notice in the mail.

Existing and new gas wells. Columbia's 15 existing production wells in Hardy and Hampshire Counties will be reconditioned and upgraded for storage purposes. Columbia may also drill 13 new wells in the storage field, some of which will be directionally drilled from existing well sites.

Replacing pipelines. Columbia will upgrade and replace the existing pipelines that connect with gas wells in the field to allow them to support the storage operation. Approximately 28 new storage lines of varying diameters and lengths and approximately 28 miles of transmission pipeline will be constructed.

New compressor station. Located in Hardy County, this 5,000-horsepower facility will use natural gas-fueled engines to inject (compress) gas into and withdraw it out of the storage field, as needed.

Virginia Looping Project

To transport natural gas from the Hardy Storage Project to markets, Columbia will construct new 24-inch-diameter sections of loop parallel to its existing pipelines in Virginia. This project involves looping approximately 31 miles of Columbia's Line WB-2-VA corridor in Shenandoah, Rockingham, Page, and Greene Counties, and approximately 2.5 miles of Columbia's existing VM-108 corridor in Louisa County. Maps depicting Columbia's proposed loops in Virginia are provided in Appendix 2.

Columbia plans to file a formal application for this project with the FERC in early 2005. They are requesting approval to begin construction in late 2005 or early 2006, with most of the construction to be completed by the end of the 2006. Storage field injections are proposed to begin in the spring of 2007.

The EA Process

Although no formal application for authorizing natural gas facilities has been filed, the FERC staff is initiating its NEPA review now. The purpose of the FERC's Pre-filing Process is to encourage the early involvement of interested stakeholders and to identify and resolve issues before an application is filed with the FERC.

The FERC will use the EA to consider the environmental impact that could result if it issues Columbia a Certificate of Public Convenience and Necessity.

This notice formally announces our preparation of the EA and the beginning of the process referred to as “scoping.” We ³ are soliciting input from the public and interested agencies to help us focus the analysis in the EA on the potentially significant environmental issues related to the proposed actions.

³ “We,” “us,” and “our” refer to the environmental staff of the Office of Energy Projects.

Our independent analysis of the issues will be included in a EA that will be mailed to Federal, state, and local government agencies; elected officials; environmental and public interest groups; affected landowners; other interested parties; local libraries and newspapers; and the FERC's official service list for this proceeding. A 30-day comment period will be allotted for review of the EA. We will consider all comments on the EA in any Commission Order that is issued for the project.

With this notice, we are asking these and other Federal, state, and local agencies with jurisdiction and/or special expertise with respect to environmental issues to formally cooperate with us in the preparation of the EA. Agencies that would like to request cooperating status should follow the instructions for filing comments provided below.

Public Participation

You can make a difference by providing use with your specific comments or concerns about the proposals. Your comments should focus on the potential environmental effects, reasonable alternatives (including alternative storage sites and pipeline routes), and measures to avoid or lessen environmental impact. The more specific your comments, the more useful they will be. To ensure that your comments are timely and properly recorded, please mail your comments so that they will be received in Washington, DC on or before November 22, 2004, and carefully follow these instructions:

• Send an original and two copies of your letter to: Magalie R. Salas, Secretary, Federal Energy Regulatory Commission, 888 First St., NE., Room 1A, Washington, DC 20426;

• Label one copy of the comments for the attention of Gas Branch 1, DG2E;

• Reference Docket No. PF04-14-000 on the original and both copies.

Please note that the Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a Comment on Filing.

When Columbia submits its application for authorization to construct and operate the storage facility, the Commission will publish a Notice of Application in the Federal Register and will establish a deadline for interested persons to intervene in the proceeding. Because the Commission's NEPA Pre-filing Process occurs before an application to begin a proceeding is officially filed, petitions to intervene during this process are premature and will not be accepted by the Commission.

Environmental Mailing List

If you wish to remain on our environmental mailing list, please return the Information Request Form included in Appendix 3. If you do not return this form, you will be removed from our mailing list.

Availability of Additional Information

Additional information about the project is available from the Commission's Office of External Affairs at 1-866-208-FERC (3372) or on the FERC Internet Web site (http://www.ferc.gov). Using the “eLibrary” link, select General Search from the “eLibrary” menu, enter the selected date range and Docket Number (i.e., PF04-14), and follow the instructions. Searches may also be done using the phrase Hardy Storage Project in the Text Search field. For assistance with access to “eLibrary”, the helpline can be reached at 1-866-208-3676, TTY (202) 502-8659, or at FERCOnlineSupport@ferc.gov. The “eLibrary” link on the FERC Internet Web site also provides access to the texts of formal documents issued by the Commission, such as orders, notices, and rule makings.

In addition, the FERC now offers a free service called “eSubscription” that allows you to keep track of all formal issuances and submittals in specific dockets. This can reduce the amount of time you spend researching proceedings by automatically providing you with notification of these filings, document summaries, and direct links to the documents. To register for this service, go to http://www.ferc.gov/esubscribenow.htm.

Finally, Columbia has established an Internet Web site for its project at http://www.columbiagastrans.com/newprojects. The Web site includes a description of the project, overview map of the proposed sites, contact information for Columbia, and links to related documents.

Magalie R. Salas,
Secretary.

[FR Doc. E4-2681 Filed 10-15-04; 8:45 am]

BILLING CODE 6717-01-P